DEPARTMENT OF COMMERCE

Foreign-Trade Zones Board

[B-60-2019]

Foreign-Trade Zone (FTZ) 23—Buffalo, New York; Notification of Proposed Production Activity; Panasonic Solar North America (Crystalline Silicon Photovoltaic Solar Panels/Modules and Cells); Buffalo, New York

Panasonic Solar North America (PSNA, formerly Panasonic Eco Solutions Solar New York America) submitted a notification of proposed production activity to the FTZ Board for its facility in Buffalo, New York. The notification conforming to the requirements of the regulations of the FTZ Board (15 CFR 400.22) was received on September 26, 2019.

PSNA already has authority to produce crystalline silicon photovoltaic (CSPV) cells and solar panels/modules within Subzone 23E. The current request would add a foreign-status material/component to the scope of authority. Pursuant to 15 CFR 400.14(b), additional FTZ authority would be limited to the specific foreign-status component described in the submitted notification (as described below) and subsequently authorized by the FTZ Board.

Production under FTZ procedures could exempt PSNA from customs duty payments on the foreign-status material/component used in export production. On its domestic sales, for the foreign-status organic surface-active agents (texture additives) (duty rate, 3.7%), PSNA would be able to choose the duty rate during customs entry procedures that applies to CSPV cells and solar panels/modules (duty free). PSNA would be able to avoid duty on the foreign-status material/component which becomes scrap/waste. Customs duties also could possibly be deferred or reduced on foreign-status production equipment.

The request indicates that the foreign-status component/material is subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is November 13, 2019.

A copy of the notification will be available for public inspection in the “Reading Room” section of the Board's website, which is accessible via www.trade.gov/ftz.

For further information, contact Diane Finver at Diane.Finver@trade.gov or (202) 482-1367.

Dated: October 1, 2019.
Andrew McGilvray,
Executive Secretary.

[FR Doc. 2019-21671 Filed 10-3-19; 8:45 am]

BILLING CODE 3510-DS-P